DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 31, 2015, 04:00 p.m. to April 01, 2015, 05:00 p.m., Churchill Hotel, 1914 Connecticut Avenue NW., Washington, DC, 20009 which was published in the Federal Register on March 09, 2015, 80 FR 12494.

The meeting is being amended to reflect location change. The new meeting location is the Hyatt Regency Bethesda, One Bethesda Metro Center, Bethesda, MD 20814. The meeting is closed to the public.

Dated: March 13, 2015.
David Clary,
Program Analyst, Office of Federal Advisory Committee Policy.

[FR Doc. 2015-06270 Filed 3-18-15; 8:45 am]

BILLING CODE 4140-01-P